DEPARTMENT OF HEALTH AND HUMAN SERVICES

Centers for Disease Control and Prevention

[60Day-13-0706]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly S. Lane, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Program of Cancer Registries Program Evaluation Instrument (NPCR-PEI) (OMB No. 0920-0706, exp. 12/31/2011)—Reinstatement—National Center for Chronic Disease Prevention and Health Promotion (NCCDPHP), Centers for Disease Control and Prevention (CDC).

Background and Brief Description

The National Program of Cancer Registries (NPCR), administered by the Centers for Disease Control and Prevention (CDC), was established to provide funding for states and territories to: (1) Improve existing state-based cancer registries; (2) plan and implement registries where none existed; (3) develop model legislation and regulations for states to enhance the viability of registry operations; (4) set standards for data completeness, timeliness, and quality; (5) provide training for registry personnel; and (6) help establish a computerized reporting and data-processing system. Through the NPCR, CDC currently supports 48 population-based central cancer registries (CCR) in 45 states, one territory, the District of Columbia, and the Pacific Islands. The National Cancer Institute supports the operations of CCR in the five remaining states.

Through the NPCR, CDC provides technical assistance and funding and sets program standards to assure that complete cancer incidence data are available for national and state cancer control and prevention activities and other health planning activities. NPCR-funded CCR are the primary source of cancer surveillance data for United States Cancer Statistics (USCS), which CDC has published annually since 2002.

Over a 17-year period, CDC has collected information from NPCR grantees to monitor their performance in meeting the required Program Standards (NPCR Program Evaluation Instrument, OMB No. 0920-0706, exp. 12/31/2011). The NPCR Program Evaluation Instrument (PEI) is a secure, web-based method of collecting information about registry operations, including: Staffing, legislation, administration, reporting completeness, data exchange, data content and format, data quality assurance, data use, collaborative relationships, advanced activities, and survey feedback. Examples of information that can be obtained from various questions include, but are not limited to: (1) The number of filled full-time staff positions by position responsibility, (2) data quality control activities, (3) data collection activities as they relate to achieving NPCR standards for data completeness, (4) electronic reporting, (5) linkage with other databases and (6) whether registry data are used for comprehensive cancer control program planning and evaluation.

The most recent PEI reports were submitted to CDC in 2011. Since 2009, data collection had been conducted on a biennial schedule in odd-numbered years. In late 2011, CDC discontinued the NPCR PEI clearance in preparation for a review of program standards. At this time, CDC seeks OMB approval to reinstate the NPCR PEI clearance. Minor changes to the PEI will be implemented based on the revised NPCR standards. Additional changes include a reduction in the estimated number of NPCR grantees and an increase in the estimated burden per response.

Information will continue to be collected electronically in odd-numbered years. OMB approval is requested for three years to support data collection in 2013 and 2015. The total number of NPCR grantees is 48. For two cycles of data collection over a three-year period, the annualized number of grantees is 32 (48+48/3=32). The estimated burden per response is 2 hours.

The NPCR-PEI data collection is needed to receive, process, evaluate, aggregate, and disseminate NPCR program information. CDC and the NPCR-funded registries will use the data to monitor progress toward meeting objectives and established program standards; to describe various attributes of the NPCR-funded registries; and to respond to inquiries about the program.

There are no costs to respondents except their time. The estimated annualized burden hours are summarized in the table below.

Estimated Annualized Burden Hours
Type of respondents | Form name | Number of respondents | Number of responses per respondent | Average burden per response (in hrs.) | Total burden (in hrs.)
NPCR Grantees | PEI | 32 | 1 | 2 | 64
Total |  |  |  |  | 64

Dated: October 30, 2012.
Ron A. Otten,
Director, Office of Scientific Integrity (OSI), Office of the Associate Director for Science (OADS), Office of the Director, Centers for Disease Control and Prevention.

[FR Doc. 2012-26899 Filed 11-2-12; 8:45 am]

BILLING CODE 4163-18-P